DEPARTMENT OF JUSTICE

Office of Juvenile Justice and Delinquency Prevention

[OJP (OJJDP)-1259]

RIN 1121-ZB93

Mental Health and Juvenile Justice: Building a Model for Effective Service Delivery

AGENCY: Office of Justice Programs, Office of Juvenile Justice and Delinquency Prevention, Justice.

ACTION: Announcement of Discretionary Competitive Assistance Grant

SUMMARY: Notice is hereby given that the Office of Juvenile Justice and Delinquency Prevention, pursuant to Public Law 105-277, October 19, 1998, the Omnibus Consolidated and Emergency Supplemental Appropriation Act of 1999, is issuing a solicitation for applications from public or private agencies or organizations to engage in a variety of interrelated research activities designed to (1) improve knowledge about the nature and prevalence of mental health and co-occurring substance abuse disorders among youth in the juvenile justice system and (2) support the development of a comprehensive model for the provision of mental health services to this population.

DATES: Applications must be received no later than 5 p.m. ET on April 10, 2000.

ADDRESSES: Interested applicants must obtain an application kit from the Juvenile Justice Clearinghouse at 800-638-8736. The application kit is also available at OJJDP's Web site at www.ojjdp.ncjrs.org/grants/about/html#kit.

FOR FURTHER INFORMATION CONTACT: Karen Stern, Program Manager, Research and Program Development Division, Office of Juvenile Justice and Delinquency Prevention (phone: 202-514-9395; e-mail: sternk@opj.usdoj.gov). Douglas Dodge, Senior Policy Advisor, Office of Juvenile Justice and Delinquency Prevention (phone: 202-616-3652; e-mail: doug@ojp.usdoj.gov).

SUPPLEMENTARY INFORMATION:

Purpose

The purpose of this initiative is to substantially improve knowledge about the nature and prevalence of mental health and co-occurring substance abuse disorders among youth in the juvenile justice system and to develop and test a service delivery model based on theoretical and empirical information regarding best practices for meeting the needs of this population.

Overview

With this program announcement, the Office of Juvenile Justice and Delinquency Prevention (OJJDP) initiates an effort to build on existing research and knowledge in the area of mental health and juvenile justice. This multi year research and development effort will examine current research and theoretical literature on mental health and related substance abuse issues among juvenile offenders; the relationship between mental health and juvenile delinquency; and best practices in the delivery of mental health treatment to the juvenile offender population. This initiative will also examine the prevalence of mental health disorders among youth who enter the juvenile justice system, particularly those in detention and secure corrections. Although juvenile justice administrators and practitioners typically—and understandably—concern themselves with the most severely disordered youth, the intention of this initiative is to address the needs of youth with a broad range of mental disorders. This includes conditions, such as conduct disorder and post-traumatic stress disorder (PTSD), that are common in the juvenile justice population, but it also includes less frequently recognized conditions such as anxiety and depression. It is important to keep in mind that mild and easily treated conditions may evolve into severe and intractable disorders if left untreated. Although the focus of this initiative is on mental disorders, OJJDP recognizes that mental health and substance abuse disorders frequently co-occur, particularly in the delinquent population (Cocozza, 1992; Neighbors, Kempton, and Forehand, 1992). Therefore, information will also be obtained on the prevalence of substance abuse disorders that co-occur with mental health diagnoses. When the initial survey work has been completed, OJJDP will fund multiple demonstration sites to implement and evaluate a service delivery model derived from current theory and best practices. The demonstration program will be evaluated using an experimental design.

This program announcement seeks applications for the first phase of this effort and will fund an organization that can effectively conduct the literature review described above, a survey of mental health and related substance abuse needs among juvenile justice youth in several jurisdictions, and a survey of selected juvenile justice system responses to meet those needs. The organization will then use the information gathered through these three strategies to develop a model of mental health service delivery for youth in the juvenile justice system. The information gathered during this process will be used to support a subsequent program announcement that will solicit sites for model demonstration and evaluation. The successful applicant for the first phase will also assist with the development of a research design for the demonstration sites.

Background

After increasing for a number of years, the juvenile crime rate has been declining since 1995. “Although the juvenile violent crime arrest rate increased more than 60 percent between 1988 and 1994, it decreased 23 percent between 1994 and 1997. Similarly, the juvenile homicide arrest rate increased substantially between 1988 and 1993 but declined 39 percent between 1993 and 1997” (1998 OJJDP Annual Report, 1999, p. 3). Although these trends are encouraging, juvenile offending continues to occur at a very high rate. A substantial portion of youth who are brought before the juvenile court are detained or placed in secure corrections. In 1996, 58 percent (983,100) of the youth referred to juvenile court were adjudicated delinquent. Twenty-eight percent (275,000) of these youth were sent to residential placement, an increase of 51 percent between 1987 and 1996. OJJDP's Census of Juveniles in Residential Placement (OJJDP, 1997) reported that on October 29, 1997, there were 105,790 juveniles committed by the court to out-of-home placements.

Very little is known about the mental health needs of these youth. There has been no large-scale national investigation of mental disorders among juvenile offenders and the lack of methodological consistency across smaller prevalence studies often produces inconsistent results. A review of studies (Cocozza, 1992) found that between 14 percent and 20 percent of youth in the general population suffer from a diagnosable mental disorder at any given time. It is likely that the prevalence rates among the approximately 1.8 million youth who enter the juvenile justice system each year are even higher. In adult studies, the presence of both substance abuse and mental health problems increases the likelihood that an individual will engage in criminal and violent behavior. Although this correlation has not been clearly demonstrated in youth, many of the causes and correlates of juvenile delinquency are similar to risk factors for developing mental health and substance abuse disorders.

Since the mid-1990's, OJJDP has recognized the critical role that mental health problems play in the lives of youth caught up in the juvenile justice system. As a result, OJJDP has been working for several years on a number of efforts to increase knowledge and improve services in this area.

OJJDP is supporting the GAINS Center on Co-Occurring Disorders in preparing an update of Cocozza's 1992 monograph Responding to the Mental Health Needs of Youth in the Juvenile Justice System. This update will provide important information on rates and trends of mental health and substance abuse disorders in the juvenile justice population, and identify programs and strategies for addressing these issues. OJJDP is also supporting the GAINS Center's efforts to provide training and technical assistance to States and localities on juveniles with comorbid substance abuse and mental health disorders through an interagency agreement with the National Institute of Corrections.

OJJDP is providing support for two studies of mental health disorders in the juvenile justice population. Linda Teplin's longitudinal study of 1,800 detained youth in the Cook County (Chicago) Juvenile Detention Center is yielding important information on the prevalence and severity of mental health and substance abuse disorders among detained juveniles. Gail Wasserman is working with incarcerated youth in Illinois and New Jersey to test the utility of a self-administered assessment instrument for identifying mental health disorders among youth in correctional settings.

For the past 2 years, OJJDP has explored the potential value of the Community Assessment Center (CAC) concept. CAC's provide a 24-hour centralized point of intake and assessment for juveniles entering the juvenile justice system. Early identification of mental health and substance abuse disorders can enhance placement and treatment decisions for youth at the “front end” of the juvenile justice system.

As part of OJJDP's Performance-Based Standards Demonstration Program, health/mental health standards and outcomes have been developed for the use of participating sites. The overall goal of the standards is to identify and effectively respond to the health and mental health needs of juveniles in confinement, using appropriate diagnostic, treatment, and prevention protocols.

For several years, OJJDP has been working closely with other agencies in the Federal Government to increase capacity for meeting the mental health needs of juvenile offenders. OJJDP has been active in the Federal Partnership for Children's Mental Health, organized by the Center for Mental Health Services (CMHS) of the Substance Abuse and Mental Health Services Administration (SAMHSA) in the U.S. Department of Health and Human Services. For the past 2 years, through an interagency agreement with CMHS, OJJDP has supported the provision of training and technical assistance to the Comprehensive Community Mental Health Services for Children and Their Families sites. The goal of this training is to assist the sites in ensuring that their comprehensive systems of care include youth in the juvenile justice system. OJJDP continued this support in FY 1999 as CMHS rebid its training and technical assistance contract. CMHS' 45 sites, dedicated to developing comprehensive mental health services for seriously emotionally disturbed youth and their families, present an excellent opportunity for improving mental health service delivery to all children, including delinquent and at-risk youth.

If there is a gap in the continuum of services being delivered under current programs funded by CMHS and others, it is the lack of mental health programming for juvenile offenders, particularly those in detention and secure corrections. In addition, for these incarcerated juveniles, the lack of aftercare or reentry programming is of particular concern. Although the lack of services may be most acute for juveniles in detention, secure corrections, and aftercare, OJJDP believes that the best strategy for closing these gaps is to develop a comprehensive model that will address the mental health needs of youth at every point in the juvenile justice system. To that end, OJJDP proposes to address these gaps by developing a research and demonstration effort that will (1) review what is known about theory and best practices in this area, (2) examine the prevalence of mental health and co-occurring substance abuse disorders in a sample of youth in the juvenile justice system, (3) document what services are available to meet the needs of this population, and (4) develop a model that incorporates existing theory and best practices to provide comprehensive mental health services to youth in the juvenile justice system. The model developed under this initiative will subsequently be used in a demonstration and evaluation project that will replicate and evaluate the model at several sites. The model will be evaluated using a variety of outcome measures to determine whether services are being provided in an appropriate, effective, and cost-efficient manner.

Goal

The goal of this initiative is to improve knowledge about the nature and prevalence of mental health and co-occurring substance abuse disorders among youth in the juvenile justice system and to develop a model for the exemplary provision of mental health services for this population. The model will incorporate both current theory and best practices in the areas of screening, assessment, service provision, and quality assurance. The model should include youth at all stages of the juvenile justice system, including, but not limited to, arrest, intake, adjudication, detention, secure corrections, probation, and community-based treatment. Ideally, this model will be used in a subsequent demonstration and evaluation project, which will replicate the model at two to five sites.

Objectives

The objectives of this initiative are:

• To explore the research and theoretical literature related to the delivery of mental health services to youth in the juvenile justice system.

• To enhance the understanding of mental health service needs of youth involved in the juvenile justice system, including gender-specific differences in service needs.

• To increase the knowledge base regarding existing mental health service delivery systems in different parts of the country.

• To improve access to mental health services for youth in the juvenile justice system and to improve the quality and coordination of the services provided.

• To identify or create a model for the delivery of comprehensive mental health services to youth in the juvenile justice system.

• To identify model approaches to service delivery that will overcome interdisciplinary differences by fostering true collaboration between mental health and juvenile justice professionals.

• To increase the quality and cost-effectiveness of organizational structures for providing mental health services to youth at all levels of the juvenile justice system.

Program Strategy

Melton and Pagliocca (1992) note that emotionally disturbed youth in the juvenile justice system have many of the same mental health needs as emotionally disturbed youth in the general population. However, the identification of needs and the delivery of services to meet those needs pose unique challenges for the juvenile justice system. When designing and selecting programs for youth, juvenile justice administrators must consider a host of goals, including community safety, accountability, incapacitation, and retribution. Some of these goals may complicate or even conflict with the more traditional goals of mental health and substance abuse service delivery. For example, even if a juvenile's mental health needs might be better served by a community-based program, a judge may consider only residential options because of the severity of the youth's offense.

In addition, treatment decisions may be inextricably linked to decisions about such weighty matters as diversion, incarceration, and juvenile transfer. It is also clear that processing by the juvenile justice system can be a traumatizing experience in and of itself. Some youth with no previous history of mental health problems may experience anxiety and depressive symptoms severe enough to require treatment as a result of detention or incarceration.

Although “the treatment needs of youth do not become magically transformed when they walk through the courthouse door” (Melton and Pagliocca, 1992, p. 107), meeting those needs will require changes in the ways that both mental health and juvenile justice systems operate. Treatment and sanctions will need to be combined into a seamless system that provides both support and accountability. True interagency collaboration will be essential; these youth do not “belong” to one agency or another but are the shared responsibility of juvenile justice, mental health, education, child welfare, and any other institutions that serve the needs of children. Both mental health and juvenile justice practitioners will require training and assistance to understand and accept each other's views, goals, and practices.

With this initiative, OJJDP will provide support to a grantee willing to engage in far-reaching efforts to gather empirical and theoretical information with the goal of developing an exemplary model of service delivery. The model ultimately created should encompass a wide variety of services, including, but not limited to, the following: psychological and psychiatric evaluation, psychotherapy, medication management, treatment planning, intensive case management, home-based treatment, family support services, day treatment, crisis intervention services, acute inpatient and residential psychiatric care, therapeutic group homes or foster care, and respite care. Ongoing quality assurance measures should be incorporated. The successful applicant will also need to address the issue of cultural sensitivity in both assessment and treatment. Assessments and treatments that are not performed in a culturally competent manner can produce misdiagnoses and lead to ineffective service provision.

The system should be designed with the ultimate goal of reintegrating youthful offenders into the community. Successful reintegration will require that youth who leave the juvenile justice system continue to receive any necessary services (e.g., mental health, special education, vocational). Therefore, the model will need to address the design of linkages between the juvenile justice system and essential aftercare components. An important aspect of these linkages is how sensitive information can be transferred in a manner that fosters continuity of care while maintaining the youth's right to confidentiality. In addition, meeting the goal of effective reintegration will require high levels of family involvement. Family support_or its absence_contributes strongly to a youth's success or failure once he or she returns from incarceration.

An applicant seeking funding under this initiative must address in the application and be willing to undertake, at a minimum, the tasks described below. Specific tasks may be contracted by the applicant to other agencies or individuals, but only with the express approval of OJJDP. An applicant that plans to use contractors in this manner should (1) clearly spell out the terms of the contract in the application and (2) address the qualifications of the contractor(s) selected to perform each task.

Task I: Literature Review

The applicant must review the relevant literature from the fields of juvenile justice and mental health and any related fields such as substance abuse, criminology, sociology, etc. The purpose of this review is to identify and evaluate both research and theoretical publications related to the mental health needs of youth in the juvenile justice system. Articles addressing the provision of mental health and related substance abuse services to this population are especially pertinent. The applicant may also want to consult literature from the educational and child welfare fields. Like juvenile justice, these fields have also struggled to recognize and address the mental health needs of children and adolescents. Because of the over representation of minority youth in the juvenile justice system, the literature review will also need to address the issue of cultural sensitivity in providing services to this population. Additionally, because of the different needs of females in the juvenile justice system, the literature review should also address the issue of gender-specific services.

The applicant should provide a report, suitable for publication as an OJJDP Bulletin, that synthesizes the relevant literature. Emphasis should be placed on any publications that can contribute to the development of a service delivery model. Gaps in the existing literature should also be identified.

Task II: Survey of Mental Health Needs and Services

Although many researchers have speculated that youth in the juvenile justice system are an under served population with a high level of need, few studies have provided hard data to support or contradict this contention. Linda Teplin in Chicago and Gail Wasserman in New York are currently studying this issue. However, their data are limited to populations in large urban centers. Several States, including Colorado and Virginia, have gathered additional data during brief (1 week), intensive surveys, with the goal of informing State policy and legislation.

For the purposes of this initiative, the applicant should be prepared to conduct three similar surveys in the understudied areas of the South, Southwest, and rural Northwest. Surveys should be conducted within some naturally occurring boundary such as a State, county, district, or parish. Surveys should involve a variety of juvenile justice facilities within that boundary; at a minimum, a juvenile detention center, a secure correctional facility, and a community-based program. For each facility, the applicant will examine (1) the mental health status of youth in the facility, (2) the mental health and related substance abuse services available to these youth, and (3) the number of youth actually receiving these services. The applicant should also explore the continuity of care provided. For example: Do youth who receive psychological assessment also receive treatment based on identified needs? Do those receiving therapy within the institution also have written plans for aftercare? The applicant may also wish to examine youth and family satisfaction with the services received.

To obtain this information, the applicant will need to review both individual and facility records. However, as noted in Mental Health Needs of Youth in Virginia's Juvenile Detention Centers (U.S. Department of Justice, 1994), information contained in detention center records is often “abysmally weak,” underestimating both the number of youth in need of services as well as the number of youth who have previously received services. Therefore, in assessing a youth's mental health status, the applicant will want to consider the use of structured interviews or self-administered diagnostic inventories. Given financial and time constraints, it is understood that in-depth psychiatric interviews or psychological assessments may not be possible. For an example of a well-constructed study of this nature, the applicant is encouraged to obtain a copy of the Virginia report from the National Criminal Justice Reference Service at 800-851-3420.

For the purposes of the application, the applicant should identify and discuss the following: (1) Where the surveys will be conducted; (2) what methods will be used to collect data (e.g., self-report inventories, interviews, record reviews); and (3) what information will be obtained. Copies of all instruments or recording forms that will be used to collect data should be included in the application. The applicant should justify the selection of particular sites and the choice of instruments. If the applicant decides to create its own instruments for the site visits, a detailed description of the instrument development process should be included.

The applicant should also be prepared to document the research results in a report suitable for publication as an OJJDP Bulletin.

Task III: Identification of Best Practices

The applicant should be prepared to make between six and nine site visits to localities that are focusing their efforts on meeting the mental health needs of youth in the juvenile justice system. Locations might include CMHS Comprehensive Community Mental Health Services for Children and Their Families Program sites such as “WrapAround Milwaukee”, which incorporates delinquent youth into its system of care. Alternatively, the applicant could visit one of the three juvenile sites under the Center for Substance Abuse Treatment's Criminal Justice Treatment Networks, a program which seeks to forge a seamless system of juvenile justice, substance abuse, mental health, health, and human services. The applicant should also consider visiting sites that are not part of a Federal demonstration project but have mobilized State and local resources in innovative and effective ways.

OJJDP recommends that the applicant visit a combination of large and small sites, preferably in several different areas of the country. It is possible that some appropriate sites may be identified through the literature review described in Task I. Therefore, the applicant may choose to provide only a partial list of sites in the initial application. If the applicant chooses this approach, it should clearly specify the criteria that will be used to select additional sites. A final list of sites should be submitted to OJJDP for approval within 3 months of receipt of the grant award.

In addition to the list of sites, the application should include a site visit protocol. The protocol should identify individuals who will be interviewed (e.g., agency directors, program directors, key program staff, juvenile court judges, probation officers, family members, etc.) and the type of information that will be obtained. Consideration should be given to tours of facilities and collection of written program materials. Areas which should be explored include, but are not limited to, history of the program; legislation that has positively or adversely affected the program; interdisciplinary barriers that were identified and overcome; program goals and objectives; program structure, components, and operations; program implementation; characteristics of youth (and families) served by the program; costs and funding sources; information-sharing protocols; management information system (MIS) support; quality assurance measures; outcome data; barriers to full and effective implementation; keys to program success; and future planning efforts.

The purpose of these site visits is to identify extant models for delivering mental health and related substance abuse services to youth in the juvenile justice system. The applicant should provide a report of the site visit results, highlighting the strengths and weaknesses of the service systems reviewed.

The applicant should also be prepared to document the site visit results in a report suitable for publication as an OJJDP Bulletin.

Task IV: Model Development

Using the information gathered during Tasks I, II, and III, the applicant will construct a detailed, comprehensive model for delivering a broad array of mental health services to youth in the juvenile justice system. The model should be flexible enough to be readily adapted to a variety of sites. However, any limitations on the model's adaptability should be identified. (For example, the model may not be applicable to very young offenders, i.e., those under 12 years old.)

Applicants should consider the delivery of services at various key points in the juvenile justice system, including (but not necessarily limited to) arrest, detention, adjudication, disposition, secure corrections, community placement, and probation. Applicants should outline the steps necessary to implement the model, giving some consideration to issues of resource acquisition, development, and maintenance; collaboration among existing agencies, institutions, and programs; and the need for political support. Applicants should present possible strategies for sustaining the model under changing political or financial conditions. Relevant legislation that might promote or inhibit implementation of the model should be cited.

The model ideally will involve a high degree of coordination and integration, so that the needs of youth are appropriately met as they move through the different levels of the juvenile justice system. In order to accomplish this goal, it may be necessary for sensitive information to be shared among various service providers. The applicant should address how confidentiality will be appropriately maintained throughout this process. One traditional way of coordinating care is to assign an intensive case manager who will follow the youth throughout his or her time in the juvenile justice system. However, there may be other, equally effective ways of accomplishing the same purpose, and applicants are encouraged to think creatively.

It should be kept in mind that the ultimate goal of providing services is to reintegrate the youth back into the community and ensure that he or she becomes a healthy, productive, and successful member of society. Therefore, the model should address how continuity will be maintained between services provided within the juvenile justice system and those provided once a youth is no longer involved with the system. In linking services within and outside the juvenile justice system, it will also be important to consider how the confidentiality of the youth and family can be maintained without unnecessarily impeding the continuity of treatment.

Task V: Expert Panel and Model Refinement

Once an initial draft of the model has been prepared, the applicant will convene a panel of relevant subject matter experts to review and evaluate the model. The applicant should include a proposed list of experts in the application. In addition to subject matter experts, the panel should include at least one youth who has been involved in the juvenile justice system and family members of youth in the juvenile justice system. If possible, résumés of agreement from the proposed panelists should be included in an appendix. All panel members must be approved by OJJDP, and the agency may recommend additional panel members at the time of the grant award. The applicant will need to include in the budget the costs associated with convening the expert panel.

Based on the recommendations of the expert panel, the applicant will revise the model as necessary. The final version of the model will be presented in a report suitable for OJJDP publication.

Products

The grantee will produce the following deliverables, as described in Tasks I, II, III, and V, above, all of which must be suitable for publication by OJJDP:

• A report that synthesizes the relevant literature from the fields of juvenile justice and mental health and any related fields such as substance abuse, criminology, sociology, etc. (Task I)

• A report that documents the results of the surveys described in Task II. In addition, this report should compare the data obtained from this project with similar data reported in the literature. (Task II)

• A report that documents the results of the site visits described in Task III. This report should highlight the strengths and weaknesses of the service systems visited. (Task III)

• A report that describes in detail the comprehensive model for delivery of mental health and substance abuse services to youth in the juvenile justice system. This report should also describe how the work of Tasks I through V contributed to the development of the model. In addition, any recommendations or concerns regarding the implementation of the model should be clearly spelled out.

The application should contain a description of all products that will derive from the project, including, but not necessarily limited to, the reports described above. The grantee should also be prepared to produce a final report that provides an overview of the entire project. Applicants are also strongly encouraged to consider submitting their results for publication in refereed journals.

Eligibility Requirements

OJJDP invites applications from public or private agencies or organizations with a demonstrated capacity to carry out the requirements of this initiative. Private, for-profit organizations must agree to waive any profit or fee. The organization must have demonstrated experience in conducting extensive literature reviews, conducting in-depth sample surveys of juvenile or criminal justice offenders and facilities, carrying out research and program development, and writing reports. Funding will not be provided at this stage for demonstration sites or for sites whose primary function is the provision of mental health and substance abuse services. In the case of joint applications, one applicant must be clearly indicated as primary (for correspondence and award purposes) and the other(s) listed as coapplicants. If contractors will be used for specific project tasks, evidence of their qualifications and willingness to undertake the specified task(s) should be provided.

Selection Criteria

Applications will be evaluated and rated by a peer review panel according to the criteria outlined below. In addition, the extent to which the project narrative makes clear and logical connections among the components listed below will be considered in assessing a project's merits.

Problem(s) To Be Addressed (10 points)

Applicants must include in the project narrative a clear description of the problem(s) to be addressed by the development of a comprehensive model for mental health service delivery within the juvenile justice system. Applicants should provide a discussion of any previous or current efforts in this area and any relevant research.

Goals and Objectives (10 points)

The application must include goals and objectives that are clear, concrete, and relevant to the field of juvenile justice. Goals should derive directly from the problems to be addressed. Objectives should consist of clearly defined, measurable tasks that will enable the applicant to achieve the goals of the project.

Project Design (20 points)

The application should present in detail the design and methodology of the project. Design elements should follow directly from the project's goals and objectives. Applicants should address the requirements of the solicitation, particularly Tasks I through V as described under “Program Strategy.” Applicants should also describe how the work undertaken in the various tasks fits together and contributes to the overall goals of the project.

Where data collection is anticipated, the applicant should describe in detail the research strategy, demonstrating adequate understanding of reliability and validity issues.

Project Implementation Plan (20 points)

The application must include a detailed time/task outline that indicates when specific tasks will be initiated and completed. This time line must include, at a minimum, significant milestones in the project and product due dates. The time line should be referenced as appropriate in the narrative but should also be placed in appendix A of the application.

Project Management (15 points)

Applicants must demonstrate the existence of a management structure that will support the achievement of the project's goals and objectives in an efficient and cost-effective manner. In particular, applicants must ensure that the tasks delineated in the project time line (see “Project Implementation,” above) are adequately staffed. Applicants must also demonstrate that staff members have sufficient substantive expertise and technical experience to perform the tasks associated with the project.

Résumés for key staff members, including any contractors, should be included in appendix B.

Organizational Capability (15 points)

Applicants should also demonstrate the organizational capacity to complete the work described in the “Project Design” section. The applicant should include a description of any similar projects it has undertaken previously. Applicants should also demonstrate knowledge and experience related to juvenile justice and mental health issues. In addition, applicants should provide evidence of their ability to work collaboratively with juvenile justice system practitioners and service providers, ideally in the context of research investigations. Any applicable letters of cooperation or support should be included in appendix C.

Budget (10 points)

Applicants must provide a proposed budget that is complete, detailed, reasonable, allowable, and cost-effective in relation to the activities to be undertaken. All budgeted costs should be directly related to the achievement of project goals and objectives. A brief budget narrative should be included in this section.

Award Period

The project period and budget period will be 18 months.

Award Amount

Up to $1 million is available for an 18-month award to one grantee to develop a model of mental health service delivery for youth in the juvenile justice system. The applicant selected for this award will not be eligible to compete for any subsequent demonstration and evaluation grants associated with implementation of the model.

Format

Applicants must submit a program narrative of no more than 30 pages. This page limit does not include the abstract, budget narrative, appendixes, application forms, or assurances. Appendix A should contain the project's time line with dates for initiation and completion of critical project tasks. Appendix B should contain the résumés for the principal investigator and key staff members. Appendix C should include all necessary letters of cooperation or support.

The narrative portion of the application must be submitted on 8½-by 11-inch paper using a standard 12-point font. The application should be double spaced and printed on one side of the paper only. Single-spaced (or 1½-spaced) applications will not be accepted. Margins should be at least 1 inch on the top, bottom, and sides of each page. The narrative should be preceded by an abstract with a maximum length of 400 words.

These requirements are necessary to maintain a fair and uniform set of standards among all applicants. If the application fails to conform to these standards, it will be rejected without further review.

Catalog of Federal Domestic Assistance (CFDA) Number

The CFDA number, required on Standard Form 424, “Application for Federal Assistance,” is 16.542. Standard Form 424 is included in OJJDP's Application Kit, which can be obtained by contacting the Juvenile Justice Clearinghouse at 800-638-8736 or sending an e-mail request to puborder@ncjrs.org. The Application Kit is also available online at www.ojjdp.ncjrs.org/grants/about.html#kit.

Coordination of Federal Efforts

To encourage better coordination among Federal agencies in addressing State and local needs, the U.S. Department of Justice is requesting applicants to provide information on the following: (1) Active Federal grant awards supporting this project or related efforts, including other awards from the Department of Justice; (2) any pending applications for Federal funds for this or related efforts; and (3) plans for coordinating any funds described in items (1) and (2) with the funding requested in this application. For each Federal award, applicants must include the program or project title, the Federal granting agency, the amount of the award, and a brief description of its purpose.

“Related efforts” is defined for these purposes as one of the following:

• Efforts for the same purpose (i.e., the proposed project would supplement, expand, complement, or continue activities funded with other Federal grants).

• Another phase or component of the same program or project (e.g., to implement a planning effort funded by other Federal monies or to provide a substance abuse treatment or educational component within an existing juvenile justice project).

• Services of some kind (e.g., technical assistance, research, or evaluation) to the program or project described in the application.

Delivery Instructions

All application packages should be mailed or delivered to the Office of Juvenile Justice and Delinquency Prevention, c/o Juvenile Justice Resource Center, 2277 Research Boulevard, Mail Stop 2K, Rockville, MD 20850; 301-519-5535. Note: In the lower left-hand corner of the envelope, the applicant must clearly write “Mental Health and Juvenile Justice: Building a Model for Service Delivery.”

Due Date

Applicants are responsible for ensuring that the original and five copies of the application package are received by 5 p.m. ET on April 10, 2000.

Contact

For further information, call Karen Stern, Program Manager, Research and Program Development Division, 202-514-9395 or send an e-mail inquiry to STERNK@ojp.usdoj.gov. Alternatively, you may contact Douglas Dodge, Senior Policy Advisor, 202-616-3652, or send an e-mail inquiry to DOUG@ojp.usdoj.gov.

References

Cocozza, J. J., ed. 1992. Responding to the Mental Health Needs of Youth in the Juvenile Justice System. Seattle, WA: The National Coalition for the Mentally Ill in the Criminal Justice System.

Melton, G.B., and Pagliocca, P.M. 1992. Treatment in the juvenile justice system: Directions for policy and practice. In Responding to the Mental Health Needs of Youth in the Juvenile Justice System, edited by J.J. Cocozza. Seattle, WA: The National Coalition for the Mentally Ill in the Criminal Justice System.

Neighbors, B., Kempton, T., Forehand, R. 1992. Co-Occurrence of substance abuse with conduct, anxiety and depression disorders in juvenile delinquents. Addictive Behaviors 17:379-386.

Office of Juvenile Justice and Delinquency Prevention. 1998. Census of Juveniles in Residential Placement 1997. Washington, DC: U.S. Department of Justice, Office of Justice Programs, Office of Juvenile Justice and Delinquency Prevention.

Office of Juvenile Justice and Delinquency Prevention. 1999. OJJDP Annual Report [1998]. Washington, DC: U.S. Department of Justice, Office of Justice Programs, Office of Juvenile Justice and Delinquency Prevention.

Report of the Policy Design Team. 1994. Mental Health Needs of Youth in Virginia's Juvenile Detention Centers. Washington, DC: U.S. Department of Justice, Office of Justice Programs, National Institute of Justice.

Dated: February 2, 2000.
Shay Bilchik,
Administrator, Office of Juvenile Justice and Delinquency Prevention.

[FR Doc. 00-2927 Filed 2-8-00; 8:45 am]

BILLING CODE 4410-19-P